NATIONAL ARCHIVES AND RECORDS ADMINISTRATION

[NARA-13-0028]

Senior Executive Service (SES) Performance Review Board; Members

AGENCY: National Archives and Records Administration.

ACTION: Notice of SES Performance Review Board Appointments.

SUMMARY: Notice is hereby given of the appointment of members of the National Archives and Records Administration (NARA) Performance Review Board (PRB). The members of the PRB are: Debra Steidel Wall, Deputy Archivist of the United States; William J. Bosanko, Chief Operating Officer; Sean M. Clayton, Chief Human Capital Officer; and Micah M. Cheatham, Chief Financial Officer. These appointments supersede all previous appointments.

DATES: Effective Date: This appointment is effective on June 24, 2013.

FOR FURTHER INFORMATION CONTACT: Pamela S. Pope, Office of Human Capital, Talent Management Division (HT), National Archives and Records Administration, 1 Archives Drive, St. Louis, MO 63138, (314) 801-0882.

SUPPLEMENTARY INFORMATION: The authority for this notice is 5 U.S.C. 4314(c), which also requires each agency to establish, in accordance with regulations prescribed by the Office of Personnel Management, one or more SES Performance Review Boards. The Board shall review the initial appraisal of a senior executive's performance by the supervisor and recommend final action to the appointing authority regarding matters related to senior executive performance.

Dated: June 14, 2013.
David S. Ferriero,
Archivist of the United States.

[FR Doc. 2013-15010 Filed 6-21-13; 8:45 am]

BILLING CODE 7515-01-P